DEPARTMENT OF COMMERCE

International Trade Administration

[A-570-855]

Non-Frozen Apple Juice Concentrate from the People's Republic of China: Initiation of Antidumping New Shipper Review

AGENCY: Import Administration, International Trade Administration, Department of Commerce.

ACTION: Notice of Initiation of Antidumping New Shipper Review

SUMMARY: The Department of Commerce has received a request to conduct a new shipper review of the antidumping duty order on non-frozen apple juice concentrate from the People's Republic of China. In accordance with section 751(a)(2)(B) of the Tariff Act of 1930, as amended, and 19 CFR 351.214, we are initiating this new shipper review.

EFFECTIVE DATE: January 30, 2003.

FOR FURTHER INFORMATION CONTACT: Craig Matney, Audrey Twyman or Stephen Cho, Import Administration, International Trade Administration, U.S. Department of Commerce, 14th Street and Constitution Avenue, NW, Washington, DC 20230; telephone (202) 482-1778, (202) 482-3534, and (202) 482-3798 respectively.

SUPPLEMENTARY INFORMATION:

Background

On December 17, 2002, the Department of Commerce (“the Department”) received a request from Yantai Golden Tide Fruits & Vegetable Food Co., Ltd. (“Golden Tide”), pursuant to section 751(a)(2)(B) of the Tariff Act of 1930, as amended (“the Act”), and in accordance with 19 CFR 351.214(b), to conduct a new shipper review of the antidumping duty order on non-frozen apple juice concentrate (“NFAJC”) from the People's Republic of China (“PRC”). Golden Tide identified itself as a producer and exporter of non-frozen apple juice concentrate from the PRC. This order has a June anniversary month.

Initiation of Review

Pursuant to 19 CFR 351.214(b), Golden Tide certified in its request that it did not export the subject merchandise to the United States during the period of investigation (“POI”) (October 1, 1998 through March 31, 1999), that it has never been affiliated with any exporter or producer who exported the subject merchandise to the United States during the POI, and that its export activities are not controlled by the central government of the PRC. Golden Tide submitted documentation establishing: (i) the date on which its NFAJC was first shipped to the USA; (ii) the volume of that shipment and subsequent shipments; and (iii) the date of the first sale to an unaffiliated customer in the United States.

In accordance with section 751(a)(2)(B) of the Act and 19 CFR 351.214, we are initiating a new shipper review of the antidumping duty order on NFAJC from the PRC. We intend to issue the preliminary results of this review not later than 180 days from the date of publication of this notice. We intend to issue final results of this review no later than 90 days after the date on which the preliminary results were issued. See 19 CFR 351.214(i). All provisions of 19 CFR 351.214 will apply to Golden Tide throughout the duration of this new shipper review. Pursuant to 19 CFR 351.214(g)(1)(i)(B), the standard period of review in a new shipper review initiated in the month immediately following the semiannual anniversary month will be the six-month period immediately preceding the semi-annual anniversary month.

Antidumping Duty Proceeding | Period to be Reviewed
People's Republic of China: Non-Frozen Apple Juice Concentrate, A-570-855: Yantai Golden Tide Fruits & Vegetable Food Co., Ltd. | 06/01/02 through 11/30/02

Concurrent with publication of this notice, and in accordance with 19 CFR 351.214(e), we will instruct the U.S. Customs Service to allow, at the option of the importer, the posting of a bond or security in lieu of a cash deposit for each entry of the subject merchandise exported by the company listed above, until the completion of the review. As Golden Tide has certified that it both produced and exported the subject merchandise exported to the United States during the relevant period of review, we will apply the bonding option under 19 CFR 351.107(b)(1)(i) only to subject merchandise for which it is both the producer and exporter.

Interested parties must submit applications for disclosure under administrative protective orders in accordance with 19 CFR 351.305 and 351.306.

This initiation notice is in accordance with section 751(a)(2)(B)(ii) of the Act (19 U.S.C. 1675(a)) and 19 CFR 351.214 and 351.221(c)(1)(i).

Dated: January 24, 2003.
Susan Kuhbach,
Acting Deputy Assistant Secretary for Import Administration.

[FR Doc. 03-2195 Filed 1-29-03; 8:45 am]

BILLING CODE 3510-DS-S